NUCLEAR REGULATORY COMMISSION

[NRC-2019-0001]

Sunshine Act Meetings

TIME AND DATE: Weeks of April 22, 29, May 6, 13, 20, 27, 2019.

PLACE: Commissioners' Conference Room, 11555 Rockville Pike, Rockville, Maryland.

STATUS: Public and closed.

MATTERS TO BE CONSIDERED:

Week of April 22, 2019

Tuesday, April 23, 2019

9:00 a.m. Strategic Programmatic Overview of the Fuel Facilities and the Nuclear Materials Users Business Lines (Public Meeting). (Contact: Paul Michalak: 301-415-5804)

This meeting will be webcast live at the Web address— http://www.nrc.gov/.

Week of April 29, 2019—Tentative

Tuesday, April 30, 2019

10:00 a.m. Briefing on the Annual Threat Environment (Closed Ex. 1)

Week of May 6, 2019—Tentative

There are no meetings scheduled for the week of May 6, 2019.

Week of May 13, 2019—Tentative

Tuesday, May 14, 2019

9:00 a.m. Briefing on Digital Instrumentation and Control (Public Meeting). (Contact: Jason Paige: 301-415-1474)

This meeting will be webcast live at the Web address— http://www.nrc.gov/.

Thursday, May 16, 2019

10:00 a.m. Briefing on Security Issues (Closed Ex. 1)

2:00 p.m. Briefing on Security Issues (Closed Ex. 1)

Week of May 20, 2019—Tentative

There are no meetings scheduled for the week of May 20, 2019.

Week of May 27, 2019—Tentative

Thursday, May 30, 2019

9:00 a.m. Briefing on Nuclear Regulatory Research Program (Public Meeting). (Contact: Nicholas DiFrancesco: 301-415-1115)

This meeting will be webcast live at the Web address— http://www.nrc.gov/.

CONTACT PERSON FOR MORE INFORMATION: For more information or to verify the status of meetings, contact Denise McGovern at 301-415-0681 or via email at Denise.McGovern@nrc.gov. The schedule for Commission meetings is subject to change on short notice.

The NRC Commission Meeting Schedule can be found on the internet at: http://www.nrc.gov/public-involve/public-meetings/schedule.html.

The NRC provides reasonable accommodation to individuals with disabilities where appropriate. If you need a reasonable accommodation to participate in these public meetings, or need this meeting notice or the transcript or other information from the public meetings in another format (e.g., braille, large print), please notify Kimberly Meyer-Chambers, NRC Disability Program Manager, at 301-287-0739, by videophone at 240-428-3217, or by email at Kimberly.Meyer-Chambers@nrc.gov. Determinations on requests for reasonable accommodation will be made on a case-by-case basis.

Members of the public may request to receive this information electronically. If you would like to be added to the distribution, please contact the Nuclear Regulatory Commission, Office of the Secretary, Washington, DC 20555 (301-415-1969), or by email at Wendy.Moore@nrc.gov.

Dated at Rockville, Maryland, this 18th day of April, 2019.
For the Nuclear Regulatory Commission.
Denise L. McGovern,
Policy Coordinator, Office of the Secretary.

[FR Doc. 2019-08131 Filed 4-18-19; 4:15 pm]

BILLING CODE 7590-01-P